DEPARTMENT OF HEALTH AND HUMAN SERVICES

Health Resources and Services Administration

Agency Information Collection Activities: Submission to OMB for Review and Approval; Public Comment Request; HRSA Telehealth Outcome Measures—OMB No. 0915-0311—Extension

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the public review of this ICR will be provided to OMB. OMB will accept further comments from the public during the review and approval period. OMB may act on HRSA's ICR only after the 30-day comment period for this notice has closed.

DATES: Comments on this ICR should be received no later than August 7, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-3983.

SUPPLEMENTARY INFORMATION: Information Collection Request Title: HRSA Telehealth Outcome Measures—OMB No. 0915-0311—Extension.

Abstract: In order to help carry out its mission, HRSA created a set of performance measures that grantees can use to evaluate the effectiveness of their services programs and monitor their progress through the use of performance reporting data.

A 60-day notice published in the Federal Register on February 27, 2023, vol. 88, No. 38; pp. 12385-86. There were no public comments.

Need and Proposed Use of the Information: As required by the Government Performance and Results Act of 1993, all Federal agencies must develop strategic plans describing their overall goal and objectives. HRSA worked with its grantees to develop performance measures to be used to evaluate and monitor the progress of the grantees. Grantee goals are to: improve access to needed services; reduce rural practitioner isolation; improve health system productivity and efficiency; and improve patient outcomes. In each of these categories, specific indicators were designed to be reported through a performance monitoring website. In 2020, measures were added to the Telehealth Network Grant Program to capture awardee-level and aggregate data that illustrate the impact and scope of Federal funding along with assessing these efforts. The measures speak to HRSA's progress toward meeting the goals, specifically telehealth services delivered through Emergency Departments.

Likely Respondents: Telehealth Network Grantees.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Performance Improvement Measurement System | 29 | 1 | 29 | 7 | 203
Total | 29 |  | 29 |  | 203

Maria G. Button,
Director, Executive Secretariat.

[FR Doc. 2023-14316 Filed 7-6-23; 8:45 am]

BILLING CODE 4165-15-P